DEPARTMENT OF HOMELAND SECURITY

Coast Guard

33 CFR Part 117

[Docket No. USCG-2022-0221]

Drawbridge Operation Regulation; Rancocas Creek, Burlington County, NJ

AGENCY: Coast Guard, DHS.

ACTION: Notice of temporary deviation from regulations; request for comments.

SUMMARY: The Coast Guard has issued a temporary deviation from the operating schedule that governs the US Route 543 (Riverside-Delanco) Bridge across Rancocas Creek, mile 1.3, at Burlington County, NJ. This deviation will test a change to the drawbridge operation schedule to determine whether a permanent change to the schedule is needed. The Coast Guard is seeking comments from the public regarding these proposed changes.

DATES: This deviation is effective from May 23, 2022 through 7:59 p.m. on October 15, 2022. For the purpose of enforcement, actual notice will be used from 1 p.m. on May 4, 2022, until May 23, 2022. Comments and related material must reach the Coast Guard on or before August 1, 2022.

ADDRESSES: You may submit comments identified by docket number USCG-2022-0221 using Federal Decision Making Portal at http://www.regulations.gov. See the “Public Participation and Request for Comments” portion of the SUPPLEMENTARY INFORMATION section below for instructions on submitting comments.

FOR FURTHER INFORMATION CONTACT: If you have questions on this test deviation, call or email Mr. Mickey D. Sanders, Fifth Coast Guard District (dpb); telephone (757) 398-6587, email Mickey.D.Sanders2@uscg.mil.

SUPPLEMENTARY INFORMATION:

I. Background, Purpose and Legal Basis

The purpose of the deviation is to test the seasonal operating regulation of the US Route 543 (Riverside-Delanco) Bridge across Rancocas Creek, mile 1.3, at Burlington County, NJ. The US 543 (Riverside-Delanco) Bridge across Rancocas Creek, mile 1.3, at Burlington County, NJ, has a vertical clearance of 4 feet above mean high water in the closed-to-navigation position. The bridge currently operates under 33 CFR 117.745(b).

The Burlington County Bridge Commission who owns and operates the bridge has requested this change in the operation schedule to reduce the number of bridge openings during off-peak hours, while providing for the reasonable needs of navigation. The Rancocas Creek is used predominately by recreational vessels and pleasure crafts.

The bridge will be maintained in the closed-to-navigation position from 7 a.m. to 3 p.m., and from 8 p.m. to 11 p.m., Monday through Friday, from 7 a.m. to 1 p.m., and from 8 p.m. to 11 p.m., Saturday and Sunday, and from 11 p.m. to 7 a.m., daily, from May 4, 2022, through October 15, 2022.

The three-year, monthly average number of bridge openings from 7 a.m. to 3 p.m., Monday through Friday, 7 a.m. to 1 p.m., Saturday and Sunday, and from 8 p.m. to 11 p.m., daily, as drawn from the data contained in the bridge tender logs, is presented below.

April to October (2018, 2019 and 2020) | Average monthly openings
Monday-Friday, 7 a.m. to 3 p.m | 4
Saturday & Sunday, 7 a.m. to 1 p.m | 2
Daily, 8 p.m. to 11 p.m | 7

Vessels able to pass through the bridge in the closed-to-navigation position may do so at any time. The bridge will be able to open in case of an emergency and there is no immediate alternate route for vessels to pass. The Coast Guard will also inform the users of the waterways through our Local and Broadcast Notices to Mariners of the change in operating schedule for the bridge so that vessel operators can arrange their transits to minimize any impact caused by the test deviation.

In accordance with 33 CFR 117.35(e), the drawbridge must return to normal operation at the end of the effective period of this test deviation. This deviation is authorized under 33 CFR 117.35.

II. Public Participation and Request for Comments

We view public participation as essential to effective rulemaking, and will consider all comments and material received during the comment period. Your comment can help shape the outcome of this rulemaking. If you submit a comment, please include the docket number for this rulemaking, indicate the specific section of this document to which each comment applies, and provide a reason for each suggestion or recommendation.

We encourage you to submit comments through the Federal Decision Making Portal at https://www.regulations.gov. To do so, go to https://www.regulations.gov, type USCG-2022-0221 in the search box and click “Search.” Next, look for this document in the Search Results column, and click on it. Then click on the Comment option. If your material cannot be submitted using http://www.regulations.gov, contact the person in the FOR FURTHER INFORMATION CONTACT section of this document for alternate instructions.

To view documents mentioned in this proposed rule as being available in the docket, find the docket as described in the previous paragraph, and then select “Supporting & Related Material” in the Document Type column. Public comments will also be placed in our online docket and can be viewed by following instructions on the https://www.regulations.gov Frequently Asked Questions web page. We review all comments received, but we will only post comments that address the topic of the proposed rule. We may choose not to post off-topic, inappropriate, or duplicate comments that we receive.

We accept anonymous comments. Comments we post to http://www.regulations.gov will include any personal information you have provided. For more about privacy and submissions in response to this document, see DHS's eRulemaking System of Records notice (85 FR 14226, March 11, 2020).

Dated: May 17, 2022.
Hal R. Pitts,
Bridge Program Manager, Fifth Coast Guard District.

[FR Doc. 2022-10947 Filed 5-20-22; 8:45 am]

BILLING CODE 9110-04-P